DEPARTMENT OF COMMERCE

International Trade Administration

[A-570-846]

Brake Rotors from the People's Republic of China: Extension of Time Limit for the Preliminary Results of the 2006-2007 Administrative and New Shipper Reviews

AGENCY: Import Administration, International Trade Administration, Department of Commerce.

EFFECTIVE DATE: January 7, 2008.

FOR FURTHER INFORMATION CONTACT: Frances Veith, AD/CVD Operations, Office 8, Import Administration, International Trade Administration, U.S. Department of Commerce, 14th Street and Constitution Avenue, NW, Washington, DC 20230; telephone: (202) 482-4295.

SUPPLEMENTARY INFORMATION:

Background

New Shipper Review

On April 18, 2007, Shanghai Tylon Company Ltd. (“Tylon”) requested a new shipper review of the antidumping duty order on brake rotors from the People's Republic of China (“PRC”), which has an April anniversary month, in accordance with 19 CFR 351.214(c). On May 25, 2007, the Department initiated a new shipper review of Tylon covering the period April 1, 2006, through March 31, 2007. See Brake Rotors From the People's Republic of China: Initiation of Antidumping Duty New Shipper Review, 72 FR 29299 (May 25, 2007).

On August 23, 2007, Tylon agreed to waive the new shipper review time limits in accordance with 19 CFR 351.214(j)(3), to align the new shipper review with the concurrent 2006-2007 administrative review of the antidumping duty order on brake rotors from the PRC. On August 24, 2007, the Department aligned the new shipper review with the 2006-2007 administrative review of the antidumping duty order on brake rotors from the PRC.¹

¹ See the Department's memorandum, entitled “2006-2007 Administrative and New Shipper Reviews of the Antidumping Duty Order on Brake Rotors from the People's Republic of China: Alignment of 2006-2007 Administrative and New Shipper Reviews,” dated August 24, 2007 (“NSR Alignment Memo”).

Administrative Review

On April 2, 2007, the Department published a notice of opportunity to request an administrative review of the antidumping duty order on brake rotors from the PRC. See Antidumping or Countervailing Duty Order, Finding, or Suspended Investigation; Opportunity To Request Administrative Review, 72 FR 15650 (April 2, 2006). On April 30, 2007, the Department received timely requests for an administrative review of this antidumping duty order in accordance with 19 CFR 351.213 from the following individual companies: LABEC, Winhere, Haimeng, Hongda, Meita, Wally, and Longkou Dixion Brake System Ltd. (“Dixion”). On April 30, 2007, the Department also received timely requests for an administrative review of 23 companies (or producer/exporter combinations),² from petitioner. As a result of the above-mentioned companies' and petitioner's requests for a review, this administrative review covers 24 companies.

² The names of these companies or producer/exporter combination are as follows: (1) Longkou Haimeng Machinery Co., Ltd. (“Haimeng”); (2) Qingdao Meita Automotive Industry Co., Ltd. (“Meita”); (3) Laizhou Auto Brake Equipment Factory (“LABEC”); (4) Yantai Winhere Auto-Part Manufacturing Co., Ltd. (“Winhere”); (5) Laizhou Hongda Auto Replacement Parts Co., Ltd. (“Hongda”); (6) Laizhou City Luqi Machinery Co., Ltd. (“Luqi”); (7) Laizhou Wally Automobile Co., Ltd. (“Wally”); (8) Zibo Luzhou Automobile Parts Co., Ltd. (“ZLAP”); (9) Zibo Golden Harvest Machinery Limited Company (“ZGOLD”); (10) Longkou TLC Machinery Co., Ltd. (“TLC”); (11) Longkou Jinzheng Maxhinery Co. (“Jinzheng”); (12) Qingdao Gren Co. (“Gren”); (13) Shenyang Yinghao Machinery Co. (“Yinghao”); (14) Shanxi Zhongding Auto Parts Co., Ltd. (“SZAP”); (15) Shandong Huanri Group Company (“Huanri”); (16) Longkou Qizheng Auto Parts Co. (“Qizheng”); (17) China National Automotive Industry Import & Export Corporation (“CAIEC”), excluding entries manufactured by Shandong Laizhou CAPCO Industry (“CAPCO”); (18) CAPCO, excluding entries manufactured by CAPCO; (19) Laizhou Luyuan Automobile Fittings Co. (“Luyuan”), excluding entries manufactured by Laizhou Luyuan or Shenyang Honbase Machinery Co., Ltd. (“Honbase”); (20) Honbase, excluding entries manufactured by Laizhou Luyuan or Honbase; (21) China National Industrial Machinery Import & Export Corporation (“CNIM”); (22) Xianghe Xumingyuan Auto Parts Co. (“Xumingyuan””); and (23) Qingdao Golrich Autoparts Co., Ltd. (“Golrich”).

As mentioned above, on August 24, 2007, the Department aligned the new shipper review with the 2006-2007 administrative review of the antidumping duty order on brake rotors from the PRC.³ The preliminary results of these reviews are currently due no later than December 31, 2007.

³ See NSR Alignment Memo.

Extension of Time Limit for Preliminary Results of Review

Pursuant to section 751(a)(3)(A) of the Tariff Act of 1930, as amended (“Act”), the Department shall make a preliminary determination in an administrative review of an antidumping duty order within 245 days after the last day of the anniversary month of the date of publication of the order. The Act further provides, however, that the Department may extend that 245-day period to 365 days if it determines it is not practicable to complete the review within the foregoing time period.

The Department determines that completion of the preliminary results of these reviews within the statutory time period is not practicable. The Department requires additional time to analyze issues regarding the respondents, including 12 separate-rate respondents and two mandatory respondents in the administrative review and one respondent in the new shipper review. Therefore, given the complexity of the issues and the number of companies in this case, and in accordance with sections 751(a)(3)(A) and 751(a)(2)(B)(iv) of the Act, we are extending the time period for issuing the preliminary results of review by 30 days until January 30, 2008.

This notice is published in accordance with sections 751(a)(3)(A) and 777(i)(1) of the Act.

Dated: December 28, 2007.
Gary Taverman,
Acting Deputy Assistant Secretary for Import Administration.

[FR Doc. E7-25645 Filed 1-4-08; 8:45 am]

BILLING CODE: 3510-DS-S